DEPARTMENT OF VETERANS AFFAIRS

38 CFR Parts 3, 17, 18 and 21

RIN 2900-AR04

Vocational Rehabilitation and Employment (VR&E) Program: Name Change

AGENCY: Department of Veterans Affairs.

ACTION: Proposed rule.

SUMMARY: The Department of Veterans Affairs (VA) proposes to amend the regulations pertaining to the name of the Chapter 31 Vocational Rehabilitation and Employment program. VA provides benefits and services under the program name of “Vocational Rehabilitation and Employment”. VA is proposing to amend the name to “Veteran Readiness and Employment” (VR&E). VA further proposes that the references to the position of “Vocational Rehabilitation and Employment Officer” be amended to “Veteran Readiness and Employment Officer” and the position of “Director of Vocational Rehabilitation and Employment” be amended to “Executive Director of Veteran Readiness and Employment”.

DATES: Comments must be received on or before July 19, 2021.

ADDRESSES: Comments may be submitted through www.Regulations.gov or mailed to Department of Veterans Affairs, Veteran Readiness and Employment (28), 810 Vermont Avenue NW, Washington, DC 20420. Comments should indicate that they are submitted in response to RIN 2900-AR04—Vocational Rehabilitation and Employment (VR&E) Program: Name Change. Comments received will be available at regulations.gov for public viewing, inspection or copies.

FOR FURTHER INFORMATION CONTACT: Allison Bernheimer, Policy Analyst, Veteran Readiness and Employment Services (28), 810 Vermont Avenue NW, Washington, DC 20420, allison.bernheimer@va.gov, (202) 461-9600. (This is not a toll-free telephone number.)

SUPPLEMENTARY INFORMATION: In accordance with 38 U.S.C. 3100, the purpose of the Chapter 31 Vocational Rehabilitation and Employment program is to provide for all services and assistance necessary to enable Veterans with service-connected disabilities to achieve maximum independence in daily living and, to the maximum extent possible, to become employable and to obtain and maintain suitable employment. VA proposes to change the program name from “Vocational Rehabilitation and Employment” to “Veteran Readiness and Employment”.

We begin by proposing to amend 38 CFR 3.341(c) and 3.342(c)(1) by replacing references to “Vocational Rehabilitation and Employment” with “Veteran Readiness and Employment (VR&E)” and to amend 38 CFR 17.37(e) by replacing a reference to “vocational rehabilitation” with “Veteran Readiness and Employment (VR&E)”. We also propose to amend 38 CFR part 18, Appendix A to Subpart A, Appendix A to Subpart D, and Appendix A to Subpart E by replacing all references to “vocational rehabilitation” with “Veteran Readiness and Employment”. We also propose to amend the title of 38 CFR part 21 from “Vocational Rehabilitation and Education” to “Veteran Readiness and Employment and Education” and the title of part 21, subpart A from “Vocational Rehabilitation and Employment Under 38 U.S.C. Chapter 31” to “Veteran Readiness and Employment Under 38 U.S.C. Chapter 31”.

The term “vocational” may be misinterpreted as referring to a participant who is undergoing training in a skill or trade. For a Service member or Veteran needing assistance to become independent in daily living or to increase the individual's potential to return to work by obtaining services to lessen or accommodate the effects of a disability(ies), the term “vocational” may be misconstrued in regard to the types of services available. Furthermore, VR&E provides training towards employment goals through a wide variety of programs beyond vocational schools for individuals seeking benefits and services to become employable. Training is provided to the level generally recognized as necessary for entry into employment in a suitable occupational objective. VR&E's focus includes successful employment outcomes, while still providing services aimed at readjustment and preparation through retraining. The term “vocational” may have deterred individuals from applying for benefits and services. VR&E's purpose is to enhance a Service member or Veteran's job-readiness and job-seeking skills to increase the Service member or Veteran's ability to obtain and maintain employment. The Service member or Veteran is the most important part of the mission; therefore, VR&E Service proposes replacing “vocational” with “Veteran” in the program name for a more Service member and Veteran friendly approach to providing benefits and services.

VR&E Service recently consulted various stakeholders regarding replacing the term “rehabilitation” in the program name. This consultation yielded insights, using a human-centered design approach, from vocational rehabilitation counselors, Service members, Veterans, Veterans Service Organizations, and VR&E claimants. Individuals from each service branch and gender from across the Nation were included to ensure a comprehensive and inclusive data pool. Essentially, we determined that the term “rehabilitation” has a negative connotation, including the perception of it being related to drug and alcohol addiction treatment, which may inhibit some individuals from taking advantage of VR&E benefits and services. Therefore, VR&E Service proposes to replace “rehabilitation” with “readiness”. The new name is more in line with what Service members and Veterans already understand from their military service. The VR&E acronym will remain unchanged.

For purposes of maintaining consistency with the program's name change in 38 CFR chapter 1, part 21, we propose to amend all references to Vocational Rehabilitation and Employment Officer to read as Veteran Readiness and Employment Officer.

The VR&E Officer manages a VR&E division within a Regional Office and is responsible for providing administrative and technical direction and professional leadership to a staff of Vocational Rehabilitation Counselors (VRC), Employment Coordinators (EC), and administrative support staff members. (We plan to retain the current title for VRCs because it is based on the credentialing that these individuals receive.) VR&E Officers provide internal policy direction and administrative expertise in all phases of the rehabilitation activities. The VR&E Officer works closely with VRCs, ECs, Service members, and Veterans to resolve complex issues regarding services and benefits. The VR&E Officer has specific authorities to review and approve program costs throughout the life of a rehabilitation plan. The change in title would align it more with the overall mission of the program.

To make the language in 38 CFR chapter 1, part 21 consistent with the changes above, we also propose to amend the reference to the Director, Vocational Rehabilitation and Employment Service to read as the Executive Director, Veteran Readiness and Employment Service.

The Executive Director oversees the program by developing policies and procedures, formulating budgets, developing workload management systems, supporting Regional Office staff with training programs, and providing oversight over and developing the structure of the office staff. The Executive Director supports the mission, vision, strategic direction, and enterprise thinking for all program services and also serves as the chief point of contact for Congress and all Federal agencies on any matters related to the program. The Executive Director must approve extensions for specific rehabilitation plans and waivers for repayment of supplies in certain instances. The change in title would align it more with the overall mission of the program.

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. The Office of Information and Regulatory Affairs has determined that this rule is not a significant regulatory action under Executive Order 12866.

VA's impact analysis can be found as a supporting document at http://www.regulations.gov, usually within 48 hours after the rulemaking document is published. Additionally, a copy of the rulemaking and its Regulatory Impact Analysis are available on VA's website at http://www.va.gov/orpm/, by following the link for “VA Regulations Published From FY 2004 Through Fiscal Year to Date.”

Regulatory Flexibility Act

The Secretary hereby certifies that this proposed rule would not have a significant economic impact on a substantial number of small entities as they are defined in the Regulatory Flexibility Act (5 U.S.C. 601-612). There are no small entities that would be affected by the provisions associated with this rulemaking. Therefore, pursuant to 5 U.S.C. 605(b), the initial and final regulatory flexibility analysis requirements of 5 U.S.C. 603 and 604 do not apply.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This proposed rule would have no such effect on State, local, and tribal governments, or on the private sector.

Paperwork Reduction Act

This proposed rule contains no provisions constituting a collection of information under the Paperwork Reduction Act of 1995 (44 U.S.C. 3501-3521).

Catalog of Federal Domestic Assistance

The Catalog of Federal Domestic Assistance numbers and titles for the programs affected by this document are 64.116, Vocational Rehabilitation for Disabled Veterans; 64.125, Vocational and Educational Counseling for Servicemembers and Veterans; 64.128, Vocational Training and Rehabilitation for Vietnam Veterans' Children with Spina Bifida or Other Covered Birth Defects.

List of Subjects

38 CFR Part 3

Administrative practice and procedure, Claims, Disability benefits, Health care, Pensions, Radioactive materials, Veterans, Vietnam.

38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

38 CFR Part 18

Aged, Civil Rights, Equal educational opportunity, Equal employment opportunity, Individuals with disabilities, Reporting and recordkeeping requirements, Veterans.

38 CFR Part 21

Administrative practice and procedure, Armed forces, Civil rights, Claims, Colleges and universities, Conflict of interests, Defense Department, Education, Employment, Grant programs—education, Grant programs—veterans, Health care, Loan programs—education, Loan programs—veterans, Manpower training programs, Reporting and recordkeeping requirements, Schools, Travel and transportation expenses, Veterans, Vocational education, Vocational rehabilitation.

Signing Authority

Denis McDonough, Secretary of Veterans Affairs, approved this document on April 9, 2021 and authorized the undersigned to sign and submit the document to the Office of the Federal Register for publication electronically as an official document of the Department of Veterans Affairs.

Luvenia Potts,
Regulation Development Coordinator, Office of Regulation Policy & Management, Office of the Secretary, Department of Veterans Affairs.

For the reasons stated in the preamble, the Department of Veterans Affairs proposes to amend 38 CFR part 3, part 17; part 18, part 21.

PART 3—ADJUDICATION

Subpart A—Pension, Compensation, and Dependency and Indemnity Compensation

1. The authority citation for part 3, subpart A continues to read as follows:

Authority: 38 U.S.C. 501(a), unless otherwise noted.

§ 3.341 [Amended]

2. In § 3.341 paragraph (c) removing in the second sentence the words “Vocational Rehabilitation and Employment” and adding in their place the words “Veteran Readiness and Employment (VR&E)”.

§ 3.342 [Amended]

3. In § 3.342 paragraph (c)(1) removing the words “Vocational Rehabilitation and Employment” and adding in their place the words “Veteran Readiness and Employment (VR&E)”.

PART 17—MEDICAL

4. The authority citation for part 17 continues to read as follows:

Authority: 38 U.S.C. 501, and as noted in specific sections.

§ 17.37 [Amended]

5. In § 17.37(e) removing the words “vocational rehabilitation” and adding in their place the words “Veteran Readiness and Employment (VR&E)”.

PART 18—NONDISCRIMINATION IN FEDERALLY-ASSISTED PROGRAMS OF THE DEPARTMENT OF VETERANS AFFAIRS—EFFECTUATION OF TITLE VI OF THE CIVIL RIGHTS ACT OF 1964

Subpart A—General

6. The authority citation for part 18, subpart A continues to read as follows:

Authority: Sec. 602, 78 Stat. 252 (42 U.S.C. 2000d-1) and the laws referred to in Appendix A.

Appendix A to Subpart E of Part 18 [Amended]

7. In Appendix A to Subpart A, sentence number 4, removing the words “vocational rehabilitation” and adding in their place the words “Veteran Readiness and Employment”.

Subpart D—Nondiscrimination on the Basis of Handicap

8. The authority citation for part 18, subpart D continues to read as follows:

Authority: 29 U.S.C. 706, 794.

Source: 45 FR 63268, Sept. 24, 1980, unless otherwise noted.

Appendix A to Subpart D of Part 18 [Amended]

9. In Appendix A to Subpart D, sentence number 10, removing the words “vocational rehabilitation” and adding in their place the words “Veteran Readiness and Employment”.

Subpart E—Nondiscrimination on the Basis of Age

10. The authority citation for part 18, subpart E continues to read as follows:

Authority: Age Discrimination Act of 1975, as amended, 42 U.S.C. 6101, et seq.; 45 CFR part 90 (1979).

Source: 50 FR 34133, Aug. 23, 1985, unless otherwise noted.

Appendix A to Subpart E of Part 18 [Amended]

11. In Appendix A to Subpart E, sentence number 8, removing the words “Vocational Rehabilitation;” and adding in their place the words “Veteran Readiness and Employment;”.

PART 21—VOCATIONAL REHABILITATION AND EDUCATION

12. The authority citation for part 21, continues to read as follows:

Authority: 38 U.S.C. 501(a), chs. 18, 31, and as noted in specific sections.

Source: 49 FR 40814, Oct. 18, 1984, unless otherwise noted.

13. Revise the heading of Part 21 to read as forth above:

PART 21—VETERAN READINESS AND EMPLOYMENT AND EDUCATION

Subpart A—Vocational Rehabilitation and Employment Under 38 U.S.C. Chapter 31

Appendix A to Subpart A of Part 21 [Amended]

14. Revise the heading of Subpart A to read as follows:

Subpart A—Veteran Readiness and Employment Under 38 U.S.C. Chapter 31

15. The authority citation for part 21, subpart A continues to read as follows:

Authority: 38 U.S.C. 501(a), chs. 18, 31, and as noted in specific sections.

Source: 49 FR 40814, Oct. 18, 1984, unless otherwise noted.

16. Revise the undesignated heading immediately before § 21.1 to read as follows:

Veteran Readiness and Employment Overview

§ 21.35 [Amended]

17. Amend § 21.35 by:

a. Removing in paragraph (k)(1),in the second sentence the words “Vocational Rehabilitation and Employment” and adding in their place the words “Veteran Readiness and Employment (VR&E)”.

b. Removing in paragraphs (k)(2) and (7) in the second sentences,the words “Vocational Rehabilitation and Employment” and adding in their place the word “VR&E”.

§ 21.42 [Amended]

18. Amend § 21.42 by:

a. Removing in paragraph (c)(1) the words “vocational rehabilitation” and adding, in their place, the words “Veteran Readiness and Employment (VR&E)”.

b. Removing in paragraph (c)(2)(ii), the words “vocational rehabilitation and employment” and adding in their place the words “VR&E”.

c. Removing in paragraph (c)(6) the words “vocational rehabilitation” and adding in their place the “VR&E”

§ 21.53 [Amended]

19. Amend § 21.53 by:

a. Removing in paragraph (f), the words “Vocational Rehabilitation and Employment (VR&E) Officer” and adding in their place the words “Veteran Readiness and Employment (VR&E) Officer”.

b. Removing in paragraph (g), the words “Vocational Rehabilitation and Employment” and adding in their place the words “VR&E”.

§ 21.57 [Amended]

20. In § 21.57 paragraph (d), removing the words “Vocational Rehabilitation and Employment” and adding in their place the words “Veteran Readiness and Employment (VR&E)”.

§ 21.60 [Amended]

21. Amend § 21.60 by:

a. Removing in paragraph (b)(1), the words “VR&E (Vocational Rehabilitation and Employment)” and adding in their place the words “Veteran Readiness and Employment (VR&E)”.

b. Removing in paragraph (c)(1), the words “VR&E (Vocational Rehabilitation and Employment)” and adding in their place the word “VR&E”.

§ 21.62 [Amended]

22. In § 21.62 paragraph (a), removing the words “Vocational Rehabilitation and Employment (VR&E)” and adding in their place the words “Veteran Readiness and Employment (VR&E)”.

§ 21.72 [Amended]

23. In § 21.72 paragraph (c), removing the words “Vocational Rehabilitation and Employment Officer” and adding in their place the words “Veteran Readiness and Employment (VR&E) Officer”.

§ 21.74 [Amended]

24. In § 21.74 paragraph (c)(2), removing the words “Vocational Rehabilitation and Employment (VR&E) Officer” and adding in their place the words “Veteran Readiness and Employment (VR&E) Officer”.

§ 21.78 [Amended]

25. In § 21.78 paragraph (d), removing the words “Vocational Rehabilitation and Employment Officer” and adding in their place the words “Veteran Readiness and Employment (VR&E) Officer”.

§ 21.80 [Amended]

26. In § 21.80 paragraph (a)(1), removing the word “VR&E” and adding in its place the words “Veteran Readiness and Employment (VR&E)”.

§ 21.100 [Amended]

27. Amend § 21.100 by:

a. Removing in paragraph (a), the words “Vocational Rehabilitation and Employment (VR&E)” and adding in their place the words “Veteran Readiness and Employment (VR&E)”.

b. Removing in paragraph (d)(1), the words “Vocational Rehabilitation and Employment (VR&E)” and adding in their place the word “VR&E”.

§ 21.155 [Amended]

28. In § 21.155 paragraph (c), removing the word “VR&E” and adding in its place the words “Veteran Readiness and Employment (VR&E)”.

§ 21.162 [Amended]

29. In § 21.162 paragraph (a)(4), removing the words “VR&E Officer” and adding in their place the words “Veteran Readiness and Employment (VR&E) Officer”.

§ 21.180 [Amended]

30. Amend § 21.180 by:

a. Removing in paragraph (a)(1), the word “VR&E” and adding in its place the words “Veteran Readiness and Employment (VR&E)”.

b. Removing in paragraph (c), the words “VR&E (Vocational Rehabilitation and Employment) Officer” and adding in their place the words “VR&E Officer”.

§ 21.182 [Amended]

31. In § 21.182 paragraph (b)(2), removing the words “VR&E (Vocational Rehabilitation and Employment)” and adding in their place the words “Veteran Readiness and Employment (VR&E)”.

§ 21.184 [Amended]

32. In § 21.184 paragraph (c)(2), removing the word “VR&E” and adding in its place the words “Veteran Readiness and Employment (VR&E)”.

§ 21.198 [Amended]

33. In § 21.198 paragraph (b)(7), removing the words “Vocational Rehabilitation and Employment (VR&E) Officer” and adding in their place the words “Veteran Readiness and Employment (VR&E) Officer”.

§ 21.222 [Amended]

34. In § 21.222 paragraph (c)(3), removing the words “Director, VR&E Service” and adding in their place the words “Executive Director, Veteran Readiness and Employment (VR&E) Service”.

§ 21.256 [Amended]

35. In § 21.256 paragraph (d), removing the words “VR&E Officer” and adding in their place the words “Veteran Readiness and Employment (VR&E) Officer”.

§ 21.258 [Amended]

36. Amend § 21.258 by:

a. Removing the words “VR&E Officer” wherever it appears and adding in their place the words “Veteran Readiness and Employment (VR&E) Officer”; and

b. Removing the words “Director, VR&E Service” wherever it appears and adding in their place the words “Executive Director, VR&E Service”.

§ 21.274 [Amended]

37. In § 21.274 paragraph (e), removing the word “VR&E” and adding in its place the words “Veteran Readiness and Employment (VR&E)”.

§ 21.292 [Amended]

38. In § 21.292 paragraph (d), removing the word “VR&E” and adding in its place the words “Veteran Readiness and Employment (VR&E)”.

§ 21.299 [Amended]

39. In § 21.299 paragraph (d)(1), removing the word “VR&E” and adding in its place the words “Veteran Readiness and Employment (VR&E)”.

§ 21.362 [Amended]

40. In § 21.362 paragraph (b)(2), removing the word “VR&E” and adding in its place the words “Veteran Readiness and Employment (VR&E)”.

§ 21.382 [Amended]

41. In § 21.382 paragraph (a), removing the word “VR&E” and adding in its place the words “Veteran Readiness and Employment (VR&E)”.

§ 21.390 [Amended]

42. In § 21.390, introductory text of paragraph (c) removing the words “Vocational Rehabilitation and Employment (VR&E)” and adding in their place the words “Veteran Readiness and Employment (VR&E)”.

§ 21.410 [Amended]

43. In § 21.410, removing the words “Vocational Rehabilitation and Employment” and adding in their place the words “Veteran Readiness and Employment (VR&E)”.

§ 21.430 [Amended]

44. In § 21.430, introductory text of paragraph (c) removing the words “Vocational Rehabilitation and Employment (VR&E)” and adding in their place the words “Veteran Readiness and Employment (VR&E)”.

§ 21.3022 [Amended]

45. In § 21.3022 paragraph (b), removing the words “Vocational Rehabilitation and Employment” and adding in their place the words “Veteran Readiness and Employment (VR&E)”.

§ 21.3104 [Amended]

46. Amend § 21.3104 by:

a. Removing in paragraph (a), the words “Vocational Rehabilitation and Employment” and add in their place the words “Veteran Readiness and Employment (VR&E)”.

b. Removing in paragraph (b), the words “Vocational Rehabilitation and Employment” and adding in their place the word “VR&E”.

§ 21.3303 [Amended]

47. Amend § 21.3303 by:

a. Removing in paragraph (a), in the second sentence the words “Director, Vocational Rehabilitation and Employment Service” and adding in their place, the words “Executive Director, Veteran Readiness and Employment (VR&E) Service”.

b. Removing in paragraph (a), in the third sentence the words “Director, Vocational Rehabilitation and Employment Service” the second place they appear and adding in their place the words “Executive Director, VR&E Service”.

§ 21.3307 [Amended]

48. In § 21.3307 paragraph (c), removing the words “Vocational Rehabilitation and Employment” and adding in their place the words “Veteran Readiness and Employment (VR&E)”.

§ 21.3344 [Amended]

49. In § 21.3344 paragraph (e)(1)(i), removing the words “Vocational Rehabilitation and Employment” and adding in their place the words “Veteran Readiness and Employment (VR&E)”.

§ 21.4001 [Amended]

50. In § 21.4001 paragraph (g), removing the words “Director, Vocational Rehabilitation and Employment Service” and adding in their place the words “Executive Director, Veteran Readiness and Employment (VR&E) Service”.

§ 21.4022 [Amended]

51. In § 21.4022 paragraph (b), removing the words “Vocational Rehabilitation and Employment Program” and adding in their place the words “Veteran Readiness and Employment (VR&E)”.

§ 21.4232 [Amended]

52. In § 21.4232 paragraph (d), removing the words “Director, Vocational Rehabilitation and Employment Service” and adding in their place the words “Executive Director, Veteran Readiness and Employment (VR&E) Service”.

§ 21.4250 [Amended]

53. In § 21.4250 paragraph (c), removing the words “Director, Vocational Rehabilitation and Employment Service” and adding in their place the words “Executive Director, Veteran Readiness and Employment (VR&E) Service”.

§ 21.5022 [Amended]

54. In § 21.5022 paragraph (a)(1)(ii), removing the words “Vocational Rehabilitation and Employment” and adding in their place the words “Veteran Readiness and Employment (VR&E)”.

§ 21.6050 [Amended]

55. In § 21.6050 paragraph (e), removing the words “Vocational Rehabilitation and Employment (VR&E)” and adding in their place the words “Veteran Readiness and Employment (VR&E)”.

§ 21.6052 [Amended]

56. In § 21.6052 paragraph (c) removing the words “Vocational Rehabilitation and Employment” and adding in their place the words “Veteran Readiness and Employment (VR&E)”.

§ 21.6054 [Amended]

57. In § 21.6054 paragraph (b), removing the words “Vocational Rehabilitation and Employment” and adding in their place the words “Veteran Readiness and Employment (VR&E)”.

§ 21.6100 [Amended]

58. In § 21.6100, in the second sentence removing the words “Vocational Rehabilitation and Employment (VR&E)” and adding in their place the words “Veteran Readiness and Employment (VR&E)”.

§ 21.6410 [Amended]

59. In § 21.6410, in the second sentence removing the words “Vocational Rehabilitation and Employment” and adding in their place the words “Veteran Readiness and Employment (VR&E)”.

§ 21.6509 [Amended]

60. In § 21.6509 paragraph (d), removing the words “Vocational Rehabilitation and Employment (VR&E)” and adding in their place the words “Veteran Readiness and Employment (VR&E)”.

§ 21.7143 [Amended]

61. In § 21.7143 paragraph (a)(1)(i), removing the words “Vocational Rehabilitation and Employment” and adding in their place the words “Veteran Readiness and Employment (VR&E)”.

§ 21.7642 [Amended]

62. In § 21.7642(a)(2), removing the words “Vocational Rehabilitation and Employment” and addinig in their place the words “Veteran Readiness and Employment (VR&E)”.

§ 21.8010 [Amended]

63. Amend § 21.8010 by removing in the definition for VR&E, the words “Vocational Rehabilitation and Employment” and adding, in their place, the words “Veteran Readiness and Employment”.

§ 21.9690 [Amended]

64. In § 21.9690 paragraph (a)(5), removing the words “Vocational Rehabilitation and Employment Program” and adding in their place the words “Veteran Readiness and Employment (VR&E)”.

[FR Doc. 2021-08555 Filed 5-19-21; 8:45 am]

BILLING CODE 8320-01-P